DEPARTMENT OF JUSTICE

[AAG/A Order No. 271-2002]

Privacy Act of 1974; System of Records

Pursuant to the Privacy Act of 1974 (5 U.S.C. 552a), notice is given that the Federal Bureau of Prisons (Bureau) proposes to modify its system of records formerly entitled, “custodial and Security Record System, JUSTICE/BOP-001”. The system notice, which was last published on September 28, 1978 (43 FR 44732), is now being modified and will become effective sixty (60) days from the date of publication.

As previously published, the system included investigative and physical security data concerning current and former inmates under the custody of the Attorney General and thereby of the Bureau of Prisons under 18 U.S.C. 4042. The Bureau is expanding this system to include additional categories of investigative data compiled by staff from the Bureau's Office of Intelligence and is deleting those categories of data that are contained in another system of records entitled, “Inmate Central Record System, JUSTICE/BOP-005.” Staff in the Bureau's Office of Intelligence, Correctional Program Division, examine and investigate serious incidents and institution disturbances to protect inmates, Bureau staff, and the public. The Bureau has developed a record system to keep track of incidents and disturbances and to aid in investigatory efforts. This system enables Bureau staff to investigate and document prison disturbances, and verify reported incidents to other law enforcement authorities, courts, and administrative bodies when necessary. To reflect the additional data, this system is being re-named the “Prison Security and Intelligence Record System, JUSTICE/BOP-001.”

The Bureau has also reorganized and expanded the routine uses, re-designated the system manager, clarified access procedures and updated the sections relating to storage and safeguards to reflect technological advances and new agency practices now in effect. In addition, the Bureau has updated the statutory authority citations.

Title 5 U.S.C. 552a(e)(4) and (11) provide that the public be provided a thirty (30) day period in which to comment on the routine uses of a new system. The Office of Management and Budget (OMB), which has oversight responsibilities under the Act, requires that it be given a forty (40) day period in which to review the system.

Therefore, please submit any comments by July 18, 2002. The public, OMB and Congress are invited to send written comments to Mary Cahill, Management and Planning Staff, Justice Management Division, Department of Justice, Washington, DC 20530 (1400 National Place Building).

A description of the system is provided below. In addition, the Department of Justice has provided a report on the proposed system to OMB and the Congress, in accordance with the Privacy Act, 5 U.S.C. 552a.

Dated: June 5, 2002.
Robert F. Diegelman,
Acting Assistant Attorney General For Administration.

JUSTICE/BOP-001

System Name:

Prison Security and Intelligence Record System.

System Location:

Records may be retained at any of the Bureau's facilities, the Regional Offices and the Central Office. A list of current addresses is contained in 28 CFR part 503 and on the Internet at http://www.bop.gov.

Categories of Individuals Covered by the System:

Current and former inmates under the custody of the Attorney General and/or the Director of the Bureau of Prisons.

Categories of Records in the System:

Records in this system include:

(a) Identification information including name, register number (if an inmate), and fingerprint information; (b) Information concerning escape plots, assaults, and disturbances; (c) Investigate reports; (d) Intelligence information; (e) Confidential Informant information; (f) FBI referral records; (g) Telephone call records.

Authority for Maintenance of the System:

This system is established and maintained under the authority of 18 U.S.C. 3621, 4042, and 5003.

Purpose of the System:

The records in this system are maintained to assist the Bureau in investigating and documenting inmate incidents and prison disturbances for purposes of guarding the safety of other inmates, Bureau staff and the general public. This system assists Bureau staff in gathering and organizing information on serious prison incidents such as escape plots, inmate assaults, major prison disturbances, investigative reports and confidential informant information. This system is necessary to better ensure prison security and better protect inmates, staff and the public.

Routine Uses of Records Maintained in the System, Including Categories of Users and the Purposes of Such Uses:

Relevant data from this system may be disclosed as follows:

(a) As permitted in the Privacy Act, 5 U.S.C. 552a(b)(1), to officers and employees of the Department of Justice who have a need for the information in the performance of their duties;

(b) To federal, state, local, tribal, international and foreign law enforcement officials who have a need for the information to perform their duties e.g., in the course of apprehensions, investigations, possible criminal prosecutions, civil court actions, regulatory proceedings, inmate disciplinary hearings, parole hearings, responding to emergencies, or other law enforcement activity; information may also be disclosed to such law enforcement agencies in order to solicit or obtain data needed by prison officials for law enforcement purposes;

(c) To a Member of Congress or staff acting upon the Member's behalf when the Member or staff requests the information on behalf of and at the request of an individual who is the subject of the record;

(d) To the National Archives and Records Administration (NARA) and to the General Services Administration in records management inspections conducted under the authority of 44 U.S.C. 2904 and 2906;

(e) In a proceeding before a court, grand jury, or administrative or regulatory body when the records are determined by the Department of Justice to be arguably relevant to the proceeding;

(f) To a federal, state, or local licensing agency or association which requires information concerning the suitability or eligibility of an individual for a license or permit;

(g) To contractors, grantees, experts, consultants, students, and others performing or working on a contract, service, grant, cooperative agreement, or other assignment for the federal government, when necessary to accomplish a Bureau function related to this system of records;

(h) To any person or entity to the extent necessary to prevent immediate loss of life or serious bodily injury;

(i) Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Information maintained in the system is stored in electronic media in Bureau facilities via a configuration of personal computer, client/server, and mainframe systems architecture. Computerized records are maintained on hard disk, floppy diskettes, magnetic tapes, compact discs (CDs) and/or optical disks. Documentary records are maintained in microfilm, manual file folders and/or index card files.

Retrievability:

Records are retrievable by institution, date, type of incident, and, where available, by inmate name.

Safeguards:

Information is safeguarded in accordance with Bureau rules and policy governing sensitive data and automated information systems security and access. These safeguards include the maintenance of records and technical equipment in restricted areas, and the required use of proper passwords and user identification codes to access the system. Only those Bureau personnel who require access to perform their official duties may access the system equipment and the information in the system. Documentary records are maintained in secure areas in locked, fireproof cabinets, in guarded buildings and accessed only by authorized personnel.

Retention and Disposal:

Records in this system are retained for five (5) years after initial documentation of the incident and, if appropriate, may be incorporated into another system of records, e.g. JUSTICE/BOP-005, Inmate Central Record System. Records concerning major prison disturbances are sent to the National Archives for permanent storage. Non-criminal activity files are kept at the institution for five years, after which they are destroyed by shredding. Automated records are destroyed by degaussing.

System Manager(s) and Address:

Assistant Director, Correctional Programs Division, Federal Bureau of Prisons, 320 First Street NW., Washington, DC 20534.

Notification Procedure:

Inquiries concerning this system should be directed to the System Manager listed above.

Record Access Procedure:

All requests for records may be made by writing to the Director, Federal Bureau of Prisons, 320 First Street NW., Washington, DC 20534, and should be clearly marked “Privacy Act Request.” This system is exempt, under 5 U.S.C. 552a (j), from some access. A determination as to exemption shall be made at the time a request for access is received.

Contesting Record Procedures:

Same as above.

Record Source Categories:

Bureau staff, inmates, confidential informants, and law enforcement officials.

Systems Exempted From Certain Provisions of the Act:

Pursuant to 5 U.S.C. 552a(j), the Attorney General has exempted this system from subsections (c)(3) and (4), (d), (e)(2) and (3), (e)(4)(H), (e)(8), (f), and (g). Rules have been promulgated in accordance with the requirement of 5 U.S.C. 553(b), (c) and (e) and have been published in the Federal Register and codified at 28 CFR 16.97(a) and (b).

[FR Doc. 02-15296 Filed 6-17-02; 8:45 am]

BILLING CODE 4410-05-M